DEPARTMENT OF THE INTERIOR

Bureau of Indian Affairs

Final Environmental Impact Statement for the Cowlitz Indian Tribe's Proposed 151.87-Acre Fee-to-Trust Transfer, Reservation Proclamation, and Casino-Resort Project, Clark County, WA

AGENCY: Bureau of Indian Affairs, Interior.

ACTION: Notice of extension of the date of issuance of the Record of Decision and reopening of the comment period.

SUMMARY: This notice announces that the Bureau of Indian Affairs is extending the date of issuance of the Record of Decision and reopening the comment period originally announced on May 30, 2008 (73 FR 31143) for the Final Environmental Impact Statement (FEIS) for the Cowlitz Indian Tribe's Proposed 151.87-acre fee-to-trust transfer, reservation proclamation, and casino-resort project, in Clark County, Washington.

DATES: The Record of Decision on the proposed action will be issued on or after August 12, 2008. Any comments on the FEIS must arrive by August 11, 2008.

ADDRESSES: You may mail or hand carry written comments to Mr. Stanley Speaks, Northwest Regional Director, Bureau of Indian Affairs, Northwest Region, 911 NE 11th Avenue, Portland, Oregon 97232. Please include your name, return address and the caption, “FEIS Comments, Cowlitz Indian Tribe Trust Acquisition and Casino Project,” on the first page of your written comments.

The FEIS will be available for public review at the following Fort Vancouver Public Library branches: La Center Community Library, 1402 East Lockwood Creek Road, La Center, Washington 98629; Ridgefield Community Library, 210 North Main Avenue Ridgefield, Washington 98642. General information for the Fort Vancouver Public Library system can be obtained by calling (360) 659-1561. The FEIS is also available on the following Web site: http://www.cowlitzeis.org.

To obtain copies of the FEIS, please provide your name and address in writing or by voicemail to Dr. B.J. Howerton, Environmental Protection Specialist, at the BIA address above or at the telephone number provided below.

FOR FURTHER INFORMATION CONTACT: B.J. Howerton, (503) 321-6749.

SUPPLEMENTARY INFORMATION: The BIA published its Notice of the Final Environmental Impact Statement for the Cowlitz Indian Tribe on May 30, 2008, in the Federal Register (73 FR 31143). Please refer to that notice for project details.

Public Comment Availability

Comments, including names and addresses of respondents, will be available for public review at the mailing addresses shown in the ADDRESSES section, during regular business hours, 8 a.m. to 4:30 p.m., Monday through Friday, except holidays. Before including your address, phone number, e-mail address or other personal identifying information in your comments, you should be aware that your entire comments-including your personal identifying information—may be made publicly available at any time. While you can ask us in your comment to withhold your personal identifying information from public review, we cannot guarantee that we will be able to do so.

Authority: This notice is published in accordance with section 1503.1 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: July 1, 2008.
George T. Skibine,
Acting Deputy Assistant Secretary, for Policy and Economic Development—Indian Affairs.

[FR Doc. E8-15741 Filed 7-9-08; 8:45 am]

BILLING CODE 4310-02-P